DEPARTMENT OF HOMELAND SECURITY

[Docket No. DHS-2023-0023]

Meeting; Homeland Security Advisory Council

AGENCY: Office of Partnership and Engagement (OPE), Department of Homeland Security (DHS).

ACTION: Notice of closed Federal advisory committee meeting.

SUMMARY: The Homeland Security Advisory Council (HSAC) will meet virtually on Thursday, August 29, 2023. The meeting will be closed to the public.

DATES: Written Comments: Written comments must be received no later than 5:00 p.m. ET on August 25, 2023. The meeting will take place from 4:00 p.m. ET to 5:00 p.m. ET on Thursday, August 29, 2023.

Comments: Members of the public are invited to provide comment on issues that will be considered by the committee as listed in the SUPPLEMENTARY INFORMATION section below. Comments should be submitted by 5:00 p.m. ET on August 25, 2023 and must be identified by Docket Number DHS-2023-0023. Comments may be submitted by one of the following methods:

• Federal eRulemaking Portal: www.regulations.gov. Please follow the instructions for submitting written comments.

• Email: HSAC@hq.dhs.gov. Include the Docket Number DHS-2023-0023 in the subject line of the email.

Instructions: All submissions received must include the words “Homeland Security Advisory Council” and the Docket Number for this action. Comments received will be posted without alteration to www.regulations.gov, including any personal information provided. You may wish to review the Privacy & Security notice available via a link on the homepage of www.regulations.gov.

Docket: For access to the docket and comments received by the Homeland Security Advisory Council, please go to www.regulations.gov and enter docket number DHS-2023-0023.

FOR FURTHER INFORMATION CONTACT: Rebecca Sternhell, Acting Executive Director, HSAC at 202-891-2876 or HSAC@hq.dhs.gov.

SUPPLEMENTARY INFORMATION: Notice of this meeting is given pursuant to the Federal Advisory Committee Act (FACA), 5 U.S.C. 1009, which requires each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The Artificial Intelligence (AI) Threats & Defense Subcommittee is tasked with (1) assessing the ways AI systems can be utilized and leveraged by adversarial forces and (2) providing recommendations to the Secretary on development and research strategies and defense initiatives to combat against malevolent and adversarial AI utilization.

The HSAC will meet in a closed session from 4:00 p.m. to 5:00 p.m. ET to receive a For Official Use Only (FOUO) and Law Enforcement Sensitive (LES) draft report from the AI Threats and Defense Subcommittee. HSAC members will receive a briefing from the Subcommittee Leadership and then the members will deliberate on the FOUO//LES report and vote on the report. Senior DHS Leadership will provide remarks prior to adjournment.

Basis for Closure: In accordance with 5 U.S.C. 1009(d), the Secretary of Homeland Security has determined this meeting must be closed as the disclosure of the information relayed would be detrimental to the public interest for the following reasons:

The Council will participate in a sensitive operational discussion containing For Official Use Only and Law Enforcement Sensitive information. The session is closed pursuant to U.S.C. 552b(c)(7) and (9)(B) because the disclosure of this information could significantly frustrate implementation of proposed agency actions.

Dated: August 9, 2023.
Rebecca Sternhell,
Acting Executive Director, Homeland Security Advisory Council, Department of Homeland Security.

[FR Doc. 2023-17462 Filed 8-14-23; 8:45 am]

BILLING CODE P